FEDERAL ACCOUNTING STANDARDS ADVISORY BOARD

Notice of Request for Volunteers for Intangible Assets Task Force

AGENCY: Federal Accounting Standards Advisory Board.

ACTION: Notice.

Pursuant to 31 U.S.C. 3511(d), the Federal Advisory Committee Act (Pub. L. 92-463), as amended, and the FASAB Rules Of Procedure, as amended in October 2010, notice is hereby given that the Federal Accounting Standards Advisory Board (FASAB) is seeking volunteers for a task force to study federal intangible assets and potentially develop accounting and financial reporting guidance for such assets. The Board seeks broad task force representation to include financial statement users, preparers, and auditors, as well as relevant operational and technical experts. Task force members should have some familiarity with federal financial statements and/or subject matter knowledge regarding federal intangible assets.

FOR FURTHER INFORMATION CONTACT: Ms. Monica R. Valentine, Executive Director, 441 G Street NW, Suite 1155, Washington, DC 20548, or call (202) 512-7350.

Authority: Federal Advisory Committee Act, Pub. L. 92-463.

Dated: March 4, 2021.
Monica R. Valentine,
Executive Director.

[FR Doc. 2021-04859 Filed 3-8-21; 8:45 am]

BILLING CODE 1610-02-P